FEDERAL DEPOSIT INSURANCE CORPORATION

Notice of Meeting Held With Less Than Seven Days Advance Notice

TIME AND DATE: 10:00 a.m. on July 30, 2024.

PLACE: The meeting was held in the FDIC Board Room, 550 17th Street NW, Washington, DC, and was webcast to the public.

MATTERS TO BE CONSIDERED: Pursuant to the provisions of the “Government in the Sunshine Act” (5 U.S.C. 552b), notice is hereby given that the Federal Deposit Insurance Corporation's Board of Directors met in open session at 10:00 a.m. on Tuesday, July 30, 2024, to consider the following matters:

Summary Agenda

Final Rule on Revisions to the FDIC's Section 19 Regulations.

Interim Final Rule on Clarification of Deposit Insurance Coverage for Legacy Branches of U.S. Banks in the Federated States of Micronesia, the Marshall Islands, and Palau.

Notice of Proposed Rulemaking regarding the Financial Data Transparency Act.

Minutes of a Board of Directors' Meeting Previously Distributed.

Summary reports, status reports, and reports of actions taken pursuant to authority delegated by the Board of Directors.

Discussion Agenda

Notice of Proposed Rulemaking on Brokered Deposit Restrictions.

Notice of Proposed Rulemaking on Parent Companies of Industrial Banks and Industrial Loan Companies.

Request for Information on Deposits.

Final Guidance for Title I Resolution Plan Triennial Full Filers and Extension of Submission Deadline.

Proposals regarding the Change in Bank Control Act Regulations and Procedures.

In calling the meeting, the Board determined, on motion of Director Michael J. Hsu (Acting Comptroller of the Currency), seconded by Director Rohit Chopra (Director, Consumer Financial Protection Bureau), by the unanimous vote of Chairman Martin J. Gruenberg, Vice Chairman Travis J. Hill, Director Jonathan P. McKernan, Director Michael J. Hsu (Acting Comptroller of the Currency), and Director Rohit Chopra (Director, Consumer Financial Protection Bureau), that Corporation business required its consideration of the matters on less than seven days' notice to the public; and that no earlier notice of the meeting than that previously provided on July 24, 2024, was practicable.

CONTACT PERSON FOR MORE INFORMATION: Direct requests for further information concerning the meeting to Debra A. Decker, Executive Secretary of the Corporation, at 202-898-8748.

Authority: 5 U.S.C. 552b.

Dated at Washington, DC, on July 30, 2024.
Federal Deposit Insurance Corporation.
James P. Sheesley,
Assistant Executive Secretary.

[FR Doc. 2024-17162 Filed 7-31-24; 8:45 am]

BILLING CODE 6714-01-P